INTERNATIONAL TRADE COMMISSION

[Investigation No. 337-TA-1125]

Certain Height-Adjustable Desk Platforms and Components Thereof Institution of Investigation

AGENCY: U.S. International Trade Commission.

ACTION: Notice.

SUMMARY: Notice is hereby given that a complaint was filed with the U.S. International Trade Commission on June 22, 2018, under section 337 of the Tariff Act of 1930, as amended, on behalf of Varidesk LLC of Coppell, Texas. On July 3, 12, and 20, 2018, Varidesk filed letters supplementing the complaint. The complaint alleges violations of section 337 based upon the importation into the United States, the sale for importation, and the sale within the United States after importation of certain height-adjustable desk platforms and components thereof by reason of infringement of certain claims of U.S. Patent No. 9,113,703 (“the '703 patent”); U.S. Patent No. 9,277,809 (“the '809 patent”); U.S. Patent No. 9,554,644 (“the '644 patent”); and U.S. Patent No. 9,924,793 (“the '793 patent”). The complaint further alleges that an industry in the United States exists as required by the applicable Federal Statute.

The complainant requests that the Commission institute an investigation and, after the investigation, issue a general exclusion order and a cease and desist order.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on July 23, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1-4 and 6-11 of the '703 patent; claims 1-3, 5-18, and 22-28 of the '809 patent; claims 1-15, 19, 21-23, 25-26, and 28-36 of the '644 patent; and claims 1-11 and 20-50 of the '793 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “a desk platform that sits on an existing desk or work surface and can be adjusted to different heights”;

(3) For the purpose of the investigation so instituted, the following are hereby named as parties upon which this notice of investigation shall be served:

(a) The complainant is: Varidesk LLC, 1221 South Belt Line Road, #500, Coppell, Texas 75019.

(b) The respondents are the following entities alleged to be in violation of section 337, and are the parties upon which the complaint is to be served:

Albeit LLC, 1351 Broadway Street, San Francisco, CA 94109

ATC Supply LLC, 12604 Canterbury Drive, Plainfield, IL 60585-3000

Shenzhen Atc Network Scienology CO., LTD., Room 1902, Zian Business Building, The Xinan Second Road, Baoan District, Shenzhen, 518000 Guangdong, China

Best Choice Products, 5642 East Ontario Mills Parkway, Ontario, CA 91764

Huizhou Chang He Home Supplies Co., Ltd., Building 2, Tangquan Qiaoxing Tech Ind. Zone, Xiaojinkou Town, Huizhou, 516023 Guangdong, China

Dakota Trading, Inc., 85 Kinderkamack Road, Emerson, NJ 07630

Designa Inc., San Zhou Lang Industrial Park, Airport Road, Nanhai District, Foshan City, 528237 Guangdong, China

Designa Group, Inc., 4901 Moreau Court, El Dorado Hills, CA 95762

Eureka LLC, 4901 Moreau Court, El Dorado Hills, CA 95762

LaMountain International Group LLC, 9125 Santorini Drive, Elk Grove, CA 95758

Amazon Import Inc., 9910 Baldwin Place, El Monte, CA 91731

Hangzhou Grandix Electronics Co., Ltd., Room 1-1804, New Youth Plaza, No. 8 Jiashan Road, Gongshu District, Hangzhou, 310014 Zhejiang, China

Ningbo GYL International Trading Co., Ltd., 228 Mingbin Road, Luoto Area, Zhenhai, Ningbo, 315202 Zhejiang, China

Knape & Vogt Manufacturing Co., 2700 Oak Industrial Drive NE, Grand Rapids, MI 49505

JV Products Inc., 1825 Houret Court, Milpitas, CA 95035

Vanson Distributing, Inc., 1825 Houret Court, Milpitas, CA 95035

Vanson Group, Inc., 1825 Houret Court, Milpitas, CA 95035

S.P. Richards Co. DBA Lorell, 6300 Highlands Parkway SE, Smyrna, GA 30082

Nantong Jon Ergonomic Office Co., Ltd., Building D, Jingyangshumacheng Chongchuan District, Nantong, 226001 Jiangsu, China

Jiangsu Omni Industrial Co., Ltd., No. 9, Yinbai Road, Hanjiang Economic Development Zone, Yangzhou City, 2251217 Jiangsu, China

OmniMax USA, LLC, 7711 County Road 513, Anna, TX 75409

Haining Orizeal Import and Export Co., Ltd., 4th Floor, Building B, Jinhui Plaza, No. 486 South Hai Chang Road, Haining, 314400 Zhejiang, China

Qidong Vision Mounts Manufacturing Co., Ltd., No. 899 Lingfeng Road, HaiHong Industry Park, Qidong, 226220 Jiangsu, China

Hangzhou KeXiang Keji Youxiangongsi, 1174 Binhe Lu, Changhe Jiedao Binjiang Qu, 310052 Hangzhou, China

Smugdesk, LLC, 14839 Proctor Avenue, Suite D, La Puente, CA 91746

Venditio Group, LLC, 4030 Deerpark Boulevard, Suite 200, Elkton, FL 32033

Versa Products Inc., 14105 Avalon Boulevard, Los Angeles, CA 90061

Victor Technology, LLC, 100 East Crossroads Parkway, Suite C, Bolingbrook, IL 60440

CKnapp Sales, Inc. DBA Vivo, 195 East Martin Drive, Goodfield, IL 61742

Wuhu Xingdian Industrial Co., Ltd., No. 168 Xici 5th Road, Mechanical Industrial Zone, Wuhu, 241100 Anhui, China

Wuppessen, Inc., 1730 East Cedar Street, Ontario, CA 91761

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondent in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 24, 2018.
Lisa Barton,
Secretary to the Commission.

[FR Doc. 2018-16126 Filed 7-27-18; 8:45 am]

BILLING CODE 7020-02-P